DEPARTMENT OF COMMERCE

National Oceanic and Atmospheric Administration

50 CFR Part 226

RIN 0648-AV35

Endangered and Threatened Species; Critical Habitat for Threatened Elkhorn and Staghorn Corals

AGENCY: National Marine Fisheries Service (NMFS), National Oceanic and Atmospheric Administration (NOAA), Commerce.

ACTION: Proposed rule; correction.

SUMMARY: This document corrects a map in the regulatory language of a proposed rule published in the Federal Register of February 6, 2008. This correction makes the map of the Florida area of critical habitat for elkhorn and staghorn corals consistent with the textual description.

FOR FURTHER INFORMATION CONTACT: Jennifer Moore or Sarah Heberling at 727-824-5312; or Marta Nammack at 301-713-1401.

SUPPLEMENTARY INFORMATION:

Correction

In proposed rule FR Doc. 08 497, beginning on page 6895 in the issue of February 6, 2008, make the following correction, in the Regulatory Language section. On page 6912, replace the map labeled “Critical Habitat for Elkhorn and Staghorn Corals, Area 1: Florida” with the following map:

BILLING CODE 3510-22-S

Dated: February 29, 2008.
John Oliver,
Deputy Assistant Administrator for Operations, National Marine Fisheries Service.

[FR Doc. 08-973 Filed 3-5-08; 8:45 am]

BILLING CODE 3510-22-C